DEPARTMENT OF THE INTERIOR

Bureau of Reclamation

[RR04093000, XXXR4081G3, RX.05940913.FY19400]

Public Meeting of the Glen Canyon Dam Adaptive Management Work Group; Correction

AGENCY: Bureau of Reclamation, Interior.

ACTION: Notice; correction.

SUMMARY: The Bureau of Reclamation published a document in the Federal Register on May 1, 2023, announcing the Glen Canyon Dam Adaptive Management Work Group's May 2023 meeting. The document contained an incorrect time for the meeting and an incorrect meeting access phone number.

FOR FURTHER INFORMATION CONTACT: Mr. William Stewart, Bureau of Reclamation, telephone (385) 622-2179, email at wstewart@usbr.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Correction

In the Federal Register of May 1, 2023, in FR Doc. 2023-09157, on page 26590, in the second column, correct the DATES and ADDRESSES captions to read:

DATES: The meeting will be held virtually on Wednesday, May 17, 2023, beginning at 9 a.m. and concluding at 3 p.m. (MDT).

ADDRESSES: The virtual meeting may be accessed at: https://rec.webex.com/rec/j.php?MTID=m069d7dac9f042ce419b775a5d2b462ff; Meeting Number: 2763 284 1693, Password: May17; Phone Number: (415) 527-5035.

To view a final copy of the agenda and documents related to the May meeting, please visit Reclamation's website at https://www.usbr.gov/uc/progact/amp/amwg.html.

William Stewart,
Adaptive Management Group Chief, Resources Management Division, Upper Colorado Basin—Interior Region 7.

[FR Doc. 2023-09970 Filed 5-9-23; 8:45 am]

BILLING CODE 4332-90-P